DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportations Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 24, 2011.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington DC or at http://regulations.gov.

This notice of receipt of applications for special permit is published in accordance with part 107 of the Federal hazardous materials transportation law (49 U.S.C. 5117(b); 49 CFR 1.53(b)).

Issued in Washington, DC, on December 15, 2010.
Donald Burger,
Chief, Special Permits and Approvals Branch.

Application No. | Docket No. | Applicant | Regulation(s) affected | Nature of special permits thereof
NEW SPECIAL PERMITS
15187-N |  | Idaho Helicopters Inc., Boise, ID | 49 CFR 172.101, Column (9B), 172.204(c)(3), 173.27(b)(2) and 175.30(a)(1), 172.200, 172.300, 172.400 | To authorize the transportation in commerce of certain hazardous materials by cargo aircraft in remote areas of the U.S. only, without being subject to certain hazard communication requirements and quantity limitations. (mode 4).
15191-N |  | Hendrix and Dail, Inc., Greenville, NC | 49 CFR 173.227(c) | To authorize the transportation in commerce of UN1H1 drums as single package for certain materials toxic by inhalation transported by motor vehicle. (mode 1).
15198-N |  | Millennium Inorganic Chemicals, Inc., Hunt Valley, MD | 49 CFR Part 172 and 173 | To authorize the transportation in commerce of titanium tetrachloride between locations of the same facility in non-DOT specification packaging and without hazard communication. (mode 1).
15199-N |  | Polskie Linie Lotnicze LOT S.A. dba LOT Polish Airlines | 49 CFR 172.101 Column (9B), 172.204(c)(3), 173.27(b)(2)-(3) | To authorize the transportation in commerce of up to 20,000 pounds of Division 1.1E explosives to Poland to support the foreign military sales program. (mode 4).

[FR Doc. 2010-32091 Filed 12-22-10; 8:45 am]

BILLING CODE 4909-60-M